DEPARTMENT OF TRANSPORTATION

Office of the Secretary

Aviation Proceedings, Agreements Filed the Week Ending August 11, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-25604.

Date Filed: August 10, 2006.

Parties: Members of the International Air Transport Association.

Subject: TC31 South Pacific—Mail Vote 497, Passenger Revalidating Resolutions, Intended Effective Date: 1 October 2006, (Memo 0188).

Docket Number: OST-2006-25613.

Date Filed: August 11, 2006.

Parties: Members of the International Air Transport Association.

Subject: PTC12 USA-EUR 0199 dated 11 August 2006, Resolution 015h—USA Add-ons between USA and UK, (Memo 0199), Intended Effective Date: 1 October 2006.

Renee V. Wright,
Program Manager, Docket Operations, Federal Register Liaison.

[FR Doc. 06-7323 Filed 8-30-06; 8:45 am]

BILLING CODE 4910-9X-P